ENVIRONMENTAL PROTECTION AGENCY

[ER-FRL-6608-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L36113-WA Rating EC2, Upper Charley Subwatershed Ecosystem Restoration Projects, Implementation, Pomeroy Ranger District, Umatilla National Forest, Garfield County, WA.

Umatilla National Forest, Garfield County, WA.

Summary: EPA expressed environmental concerns with potential adverse impacts to fish and wildlife populations, including big game and air quality within and surrounding the analysis area. The final EIS should supply information on existing air quality and an analysis of projected air quality impacts.

ERP No. D-AFS-L61223-OR Rating EC2, Mt. Ashland Ski Area Expansion, Implementation, Ashland Ranger District, Rogue River National Forest and Scott River Ranger District, Klamath National Forest, Jackson County, OR.

Summary: EPA expressed concerns with the purpose and need, range of alternatives and potential impacts to water quality, especially Riparian Reserves, and sensitive plants. EPA also commented on the mitigation and monitoring plans, skier demand, and transportation options.

ERP No. D-AFS-L65350 -ID Rating EC2, JJ (Jerry Johnson) Ecosystem Restoration Project, Ranger District (Powell), Idaho County, ID.

Summary: EPA expressed environmental concerns regarding potential adverse impacts of concentrated tree removal, especially old growth, and disturbing highly unstable terrain increasing the risk of sediment delivery to streams. EPA requests that the final EIS further address the ecological impacts, especially cumulative effects, monitoring and CWA Section 303(d) listed waters.

ERP No. D-AFS-L65355-ID Rating EC2 Summary: EPA expressed environmental concerns with entry into the Sheep Gulch Roadless Area and potential adverse impacts to water quality, fish and wildlife. The final EIS should clarify how the proposed road treatments will restore soils and hydrologic function, as well as impacts from OHVs and information on landslide events in the project area.

ERP No. D-BLM-L65347-00 Rating EC2, Cascade Siskiyou Ecological Emphasis Area Management Plan, To Maintain, Protect, Restore or Enhance the Ecological Processes, Planning Area for Designation as a National Monument by the President, OR and CA.

Summary: EPA expressed concerns about potential adverse impacts from grazing and OHV use on water quality, soils, sensitive plants and wildlife, especially in non-designated areas.

ERP No. D-SFW-K64019-NV Rating EC2, Stillwater National Wildlife Refuge Complex Comprehensive Conservation Plan and Boundary Revision, Implementation, Churchill and Washoe Counties, NV.

Summary: While EPA supported the preferred alternative, the preferred alternative did not express concerns with the water quality of inflows and management options to help ensure that water entering the wetlands is of sufficient quality to meet water quality standards and protect beneficial uses. EPA urged the Service to commit to implementation of mitigation measures, monitoring, and adaptive management.

ERP No. DS-AFS-J65268-CO Rating EO2, Legislative—DSEIS—North Fork of the South Platte Rivers Wild and Scenic River Study for the Designation or Non-Designation into the National Wild and Scenic Rivers System, Pike and San Isabel National Forests, Comache and Cimarron National Grasslands, Douglas, Jefferson, Park and Teller Counties, Co.

Summary: EPA expressed environmental objections with the selection of the “not suitable” alternative, lack of implementing documents, and absence of protection for recognized attributes of the North Fork.

Final EISs

ERP No. F-AFS-K65345-CA Pendola Fire Restoration Project, Implementation, Tahoe National Forest, Downieville Ranger District, Yuba County, CA.

Summary: No formal comment letter was sent to the preparing agency.

ERP No. F-NPS-L65331-WA Whitman Mission National Historic Site, General Management Plan, Development Concept Plan, Implementation, Walla Walla County, WA.

Summary: EPA expressed lack of objections with the proposed action.

ERP No. F-SFW-K05056-CA High Desert Power Project, Construction and Operation, A Combined-Cycle Natural Gas-Fueled Electrical Generation Power Planet, Approval of Incidental Taking Authorization under Sections 7 and 10 of the Federal ESA, San Bernardino County, CA.

Summary: No formal comment letter was sent to the preparing agency.

Dated: July 3, 2000.
Joseph C. Montgomery,
Director, NEPA Compliance Division, Office of Federal Activities

[FR Doc. 00-17272 Filed 7-6-00; 8:45 am]

BILLING CODE 6560-50-U